FEDERAL COMMUNICATIONS COMMISSION

47 CFR Part 73

[DA 03-2980; MM Docket No. 02-76; RM-10405, RM-10499*]

Radio Broadcasting Services; Belle Haven, VA; Crisfield, MD; Exmore, Nassawadox, and Poquoson, VA

AGENCY: Federal Communications Commission.

ACTION: Final rule.

SUMMARY: In response to a Notice of Proposed Rule Making, 67 FR 20485 (April 25, 2002), this Report and Order allots Channel 250B1 to Belle Haven, Virginia, reallots Channel 241B from Cape Charles to Exmore, Virginia; substitutes Channel 290A for 252A at Nassawadox, Virginia, and substitutes Channel 291A for Channel 291B at Exmore, Virginia, and reallots Channel 291A to Poquoson, Virginia. It also provides Belle Haven and Poquoson, Virginia, with their first local aural transmission services. This document dismisses the petition for rule making filed by Bay Broadcasting, Inc. the licensee of Station WBEY(FM), Crisfield, Maryland, to substitute Channel 250A for Channel 245A at Crisfield, Maryland. The coordinates for Channel 250B1 at Belle Haven are 37-32-49 NL and 75-49-48 WL, with a site restriction of 1.1 kilometers (0.7 miles) southwest of Belle Haven. The coordinates for Channel 290A at Nassawadox are 37-33-43 NL and 75-44-24 WL, with a site restriction of 14.3 kilometers (8.9 miles) northeast of Nassawadox. The coordinates for Channel 291A at Poquoson are 37-12-30 NL and 76-25-07 WL, with a site restriction of 8 kilometers (4.9 miles) north of Poquoson. The coordinates for Channel 241B at Exmore are 37-18-02 NL and 75-59-05 WL.

DATES: Effective November 13, 2003.

FOR FURTHER INFORMATION CONTACT: R. Barthen Gorman, Media Bureau, (202) 418-2180.

SUPPLEMENTARY INFORMATION: This is a synopsis of the Commission's Report and Order, MM Docket No. 02-76, adopted September 25, 2003, and released September 29, 2003. The full text of this Commission decision is available for inspection and copying during normal business hours in the FCC's Reference Information Center at Portals II, 445 12th Street, SW., Room CY-A257, Washington, DC 20554. The document may also be purchased from the Commission's duplicating contractor, Qualex International, Portals II, 445 12th Street, SW., Room CY-B402, Washington, DC 20554, telephone (202) 863-2893, facsimile (202) 863-2898, or via e-mail qualexint@aol.com.

List of Subjects in 47 CFR Part 73

Radio, Radio broadcasting.

Part 73 of Title 47 of the Code of Federal Regulations is amended as follows:

PART 73—RADIO BROADCAST SERVICES

1.The authority citation for Part 73 reads as follows:

Authority: 47 U.S.C. 154, 303, 334 and 336.

§ 73.202 [Amended]

2. Section 73.202(b), the Table of FM Allotments under Virginia, is amended by adding Belle Haven, Channel 250B1; by removing Cape Charles, Channel 241B; by removing Channel 291B and by adding Channel 241B at Exmore; by adding Nassawadox, Channel 290A; ¹ and by adding Poquoson, Channel 291A.

¹ Nassawadox and Channel 252A are not listed in the FM Table of Allotments under Virginia. Channel 252A was allotted to Nassawadox in MM Docket No. 97-189. See 63 FR 45012, August 24, 1998.

Federal Communications Commission.
John A. Karousos,
Assistant Chief, Audio Division, Media Bureau.

[FR Doc. 03-26318 Filed 10-16-03; 8:45 am]

BILLING CODE 6712-01-P